SECURITIES AND EXCHANGE COMMISSION

Submissions for OMB Review; Comment Request

Upon written request; copies available from: Securities and Exchange Commission, Office of Filings and Information Services, Washington, DC 20549.

Extensions:

Rule 14f-1; OMB Control No. 3235-0108; SEC File No. 270-127.

Rule 12g3-2; OMB Control No. 3235-0119; SEC File No. 270-104.

Rule 13e-1; OMB Control No. 3235-0305; SEC File No. 270-255.

Notice is hereby given that pursuant to the Paperwork Reduction Act of 1995 (44 U.S.C. 3501 et seq.) the Securities and Exchange Commission (“Commission”) has submitted to the Office of Management and Budget these requests for extension of the previously approved collections of information discussed below.

Rule 14f-1 (17 CFR 240.14f-1) requires issuers to disclose a change in a majority of the directors of the issuer. The information filed under Rule 14f-1 must be filed with the Commission and is publicly available. We estimate that it takes approximately 18 burden hours to provide the information required under Rule 14f-1 and that the information is filed by 44 respondents for a total annual burden of 792.

Rule 12g3-2 (17 CFR 240.12g3-2) provides an exemption from Section 12(g) of the Act (15 U.S.C. 78l(g)) for foreign private issuers. Rule 12g3-2 is designed to provide investors in foreign securities with information about such securities and the foreign issuer. The information filed under Rule 12g3-2 must be filed with the Commission and is publicly available. We estimate that it takes approximately one hour to provide the information required under Rule 12g3-2 and that the information is filed by 1,800 foreign issuers for a total annual reporting burden of 1,800 hours.

Rule 13e-1 (17 CFR 240.13e-1) makes it unlawful for an issuer who has received notice that it is the subject of a tender offer made under Section 14(d)(1) of the Act (15 U.S.C. 78n(d)(1)) and which has commenced under Rule 14d-2 (17 CFR 240.14d-2) to purchase any of its equity securities during the tender offer unless it first files a statement with the Commission containing information required by the Rule. This rule is in keeping with the Commission's statutory responsibility to prescribe rules and regulations that are necessary for the protection of investors. Public companies are the respondents. We estimate that it takes approximately 10 burden hours per response to provide the information required under Rule 13e-1 and that the information is filed by 20 respondents. We estimate that 25% of the 10 hours per response (2.5 hours) is prepared by the company for a total annual reporting burden of 50 hours (2.5 hours per response × 20 responses).

An agency may not conduct or sponsor, and a person is not required to respond to, a collection of information unless it displays a currently valid control number.

Written comments regarding the above information should be directed to the following persons: (i) Desk Officer for the Securities and Exchange Commission, Office of Information and Regulatory Affairs, Office of Management and Budget, Room 10102, New Executive Office Building, Washington, DC 20503 or send an e-mail to David_Rostker@omb.eop.gov; and (ii) R. Corey Booth, Director/Chief Information Officer, Securities and Exchange Commission, C/O Shirley Martinson 6432 General Green Way, Alexandria, VA 22312; or send an e-mail to: PRA_Mailbox@sec.gov. Comments must be submitted to OMB within 30 days of this notice.

Dated: January 3, 2007.
Florence E. Harmon,
Deputy Secretary.

[FR Doc. E7-303 Filed 1-11-07; 8:45 am]

BILLING CODE 8011-01-P